Title 3—

The President

Memorandum of January 20, 2014

Delegation of Authority Under Section 1245(d)(5) of the National Defense Authorization Act for Fiscal Year 2012 (Public Law 112-81)

Memorandum for the Secretary of State

By the authority vested in me as President by the Constitution and the laws of the United States of America, including section 301 of title 3 of the United States Code, I hereby delegate to the Secretary of State, in consultation with the Secretary of the Treasury, the authority conferred upon the President by section 1245(d)(5) of the Fiscal Year (FY) 2012 National Defense Authorization Act (NDAA).

Any reference in this memorandum to provisions of the FY 2012 NDAA related to the subject of this memorandum shall be deemed to include references to any hereafter enacted provisions of law that is the same or substantially the same as such provisions.

You are authorized and directed to publish this memorandum in the Federal Register.

THE WHITE HOUSE,

Washington, January 20, 2014.

[FR Doc. 2014-02422

Filed 2-3-14; 8:45 am]

Billing code 4710-10